COMMISSION ON CIVIL RIGHTS

Agenda and Notice of Public Meeting of the Pennsylvania Advisory Committee

Notice is hereby given, pursuant to the provisions of the rules and regulations of the U.S. Commission on Civil Rights, that a meeting of the Pennsylvania Advisory Committee to the Commission will convene at 10 a.m. and adjourn at 12:45 p.m. on Wednesday, December 11, 2002, at the Main Capitol Building, Room 8E-A (East Wing), Harrisburg, PA 17120. The Committee will hold a press conference to promote the dissemination of its report Barriers Facing Minority and Women Owned Businesses in Pennsylvania, released in Philadelphia in August 2002. The Committee will also hold a briefing session with community representatives, state and local officials, and minority and women owned business owners to discuss issues raised in the report that are unique to the Harrisburg/York area.

Persons desiring additional information, or planning a presentation to the Committee, should contact Marc Pentino of the Eastern Regional Office, 202-376-7533, mpentino@usccr.gov, (TDD 202-376-8116). Hearing-impaired persons who will attend the meeting and require the services of a sign language interpreter should contact the Regional Office at least 10 working days before the scheduled date of the meeting.

The meeting will be conducted pursuant to the provisions of the rules and regulations of the Commission.

Dated in Washington, DC, November 25, 2002.
Ivy L. Davis,
Chief, Regional Programs Coordination Unit.

[FR Doc. 02-30395 Filed 11-29-02; 8:45 am]

BILLING CODE 6335-01-P